DEPARTMENT OF TRANSPORTATION

Federal Railroad Administration

[Docket No. FRA-2020-0027-N-24]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before December 15, 2020.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Safety and Health Requirements Related to Camp Cars.

OMB Control Number: 2130-0595.

Abstract: Subparts C and E of 49 CFR part 228 address the construction of railroad-provided sleeping quarters (camp cars) and set certain safety and health requirements for such camp cars. Specifically, subpart E of part 228 prescribes minimum safety and health requirements for camp cars that a railroad provides as sleeping quarters to any of its train employees, signal employees, and dispatching service employees (covered-service employees) and individuals employed to maintain its right-of-way. Subpart E requires railroad-provided camp cars to be clean, safe, and sanitary, and be equipped with indoor toilets, potable water, and other features to protect the health of car occupants. Subpart C of part 228 prohibits a railroad from positioning a camp car intended for occupancy by individuals employed to maintain the railroad's right-of-way in the immediate vicinity of a switching or humping yard that handles railcars containing hazardous material. Generally, the requirements of subparts C and E to part 228 are intended to provide covered-service employees an opportunity for rest free from the interruptions caused by noise under the control of the railroad.

The information collected under this rule is used by FRA to ensure railroads operating camp cars comply with all the requirements mandated in this regulation to protect the health and safety of camp car occupants.

Type of Request: Extension with change (estimates) of a currently approved collection.

Affected Public: Businesses.

Form(s): N/A.

Respondent Universe: 1 railroad.

Frequency of Submission: On occasion.

Reporting Burden
CFR Section ¹ | Respondent universe | Total annual responses ² | Average time per responses | Total annual burden hours | Total cost equivalent ³
228.323(b)(4)—Water hydrants—Records of inspection | 1 railroad | 740 inspection records | 2 minutes | 25 | $1,475
—Copy of records at central location | 1 railroad | 740 record copies | 10 seconds | 2 | 118
—(b)(6) Certification from State or local health authority | 1 railroad | 666 certificates | 1 hour | 666 | 51,282
—Certification by laboratory | 1 railroad | 74 certificates | 20 minutes | 25 | 1,925
—Certification copies at central location | 1 railroad | 740 certificate copies | 10 seconds | 2 | 118
—(c)(4) Storage and distribution system—Flushing and draining—Records | 1 railroad | 111 records | 30 minutes | 56 | 3,304
—(c)(6) Lab report copies | 1 railroad | 10 lab report copies | 2 minutes | .33 | 20
—(d) Signage (for non-potable water) | 1 railroad | 740 signs | 2.5 minutes | 31 | 1,817
228.331(d)—First Aid and Life Safety—Modified Emergency Preparedness Plan | 1 railroad | 740 modified plans | 15 minutes | 185 | 14,245
—Modified Emergency Preparedness Plan copies | 1 railroad | 1,560 plan copies | 3 seconds | 1 hour | 77
228.333—Remedial action—A good faith notice of needed repair | 4 car occupants/employee labor organizations | 4 good faith notices | 15 minutes | 1 hour | 59
Total | 1 railroad | 6,125 responses | N/A | 994 | 74,440
¹ Note: The current inventory exhibits a total burden of 1,043 hours while the total burden of this requesting notice is 994 hours. FRA determined some of the estimates were not derived from PRA requirements, thus leading to the increased figures in the current inventory, which were decreased accordingly in this notice. Also, totals may not add due to rounding.
² There is currently only one Class I railroad that presently uses camp cars, operating approximately 292 camp cars. The total annual response estimates for 228.323(b)(4), 228.323(d) and 228.331(d) are derived from an estimated 292 camp cars, operating as in large, medium, and small groups. Most groups are medium-sized in which approximately 37 camp cars are set up and broken down for 10 months each year. Each camp car group moves approximately 20 times each year (37 × 20 = 740 connections, records, etc.).
³ The dollar equivalent cost is derived from the Surface Transportation Board's Full Year Wage A&B data series using the appropriate employee group hourly wage rate that includes a 75-percent overhead charge.

Total Estimated Annual Responses: 6,125.

Total Estimated Annual Burden: 994 hours.

Total Estimated Annual Burden Hour Dollar Cost Equivalent: $74,440.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-22738 Filed 10-15-20; 8:45 am]

BILLING CODE 4910-06-P